FEDERAL COMMUNICATIONS COMMISSION

47 CFR Part 54

[WC Docket Nos. 17-287, 11-42, and 09-197; Report No. 3087]

Petitions for Reconsideration of Action in Rulemaking Proceeding

AGENCY: Federal Communications Commission.

ACTION: Petitions for Reconsideration.

SUMMARY: Petitions for Reconsideration (Petitions) have been filed in the Commission's rulemaking proceeding by Joe Redcloud on behalf of Oceti Sakowin Tribal Utility Authority, and John J. Heitmann on behalf of Telrite Corporation d/b/a Life Wireless; i-wireless, LLC; and AmeriMex Communications Corp. d/b/a SafetyNet Wireless.

DATES: Oppositions to the Petitions must be filed on or before March 19, 2018. Replies to an opposition must be filed on or before March 27, 2018.

ADDRESSES: Federal Communications Commission, 445 12th Street SW, Washington, DC 20554.

FOR FURTHER INFORMATION CONTACT: Jessica Campbell, phone: 202-418-3609, jessica.campbell@fcc.gov.

SUPPLEMENTARY INFORMATION: This is a summary of the Commission's document, Report No. 3087, released February 22, 2018. The full text of the Petitions is available for viewing and copying at the FCC Reference Information Center, 445 12th Street SW, Room CY-A257, Washington, DC 20554. They also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Bridging the Digital Divide for Low Income Consumers, Lifeline and Link Up Reform and Modernization, Telecommunications Carriers Eligible for Universal Service Support, FCC 17-155, published at 83 FR 2075, January 16, 2018, in WC Docket Nos. 17-287, 11-42, and 09-097. This document is being published pursuant to 47 CFR 1.429(e). See also 47 CFR 1.4(b)(1) and 1.429(f), (g).

Number of Petitions Filed: 2.

Federal Communications Commission.
Marlene H. Dortch,
Secretary, Office of the Secretary.

[FR Doc. 2018-04359 Filed 3-1-18; 8:45 am]

BILLING CODE 6712-01-P